CONSUMER PRODUCT SAFETY COMMISSION

[Docket No. CPSC-2012-0056]

Agency Information Collection Activities; Submission for OMB Review; Comment Request—Safety Standard for Omnidirectional Citizens Band Base Station Antennas

AGENCY: Consumer Product Safety Commission.

ACTION: Notice.

SUMMARY: As required by the Paperwork Reduction Act of 1995, the Consumer Product Safety Commission (CPSC) announces a submission to the Office of Management and Budget (OMB), requesting an extension of approval for a collection of information related to the CPSC's Safety Standard for Omnidirectional Citizens Band Base Station Antennas, previously approved under OMB Control No. 3041-0006. On March 14, 2019, CPSC published a notice in the Federal Register announcing the agency's intent to seek this extension. CPSC received no comments in response to that notice.

DATES: Written comments on this request for extension of approval of information collection requirements should be submitted by July 8, 2019.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW, Washington, DC 20503. In addition, written comments that are sent to OMB also should be submitted electronically at http://www.regulations.gov, under Docket No. CPSC-2012-0056.

FOR FURTHER INFORMATION CONTACT: Bretford Griffin, Consumer Product Safety Commission, 4330 East West Highway, Bethesda, MD 20814; (301) 504-7037, or by email to: bgriffin@cpsc.gov.

SUPPLEMENTARY INFORMATION: CPSC seeks to renew the following currently approved collection of information:

Title: Safety Standard for Omnidirectional Citizens Band Base Station Antennas.

OMB Number: 3041-0006.

Type of Review: Renewal of collection.

Frequency of Response: On occasion.

Affected Public: Manufacturers, importers, and private labelers of omnidirectional citizens band base station antennas.

Estimated Number of Respondents: Approximately seven firms supply omnidirectional citizen band base station antennas.

Estimated Time per Response: Based on the information compiled by manufacturers, importers, and private labelers of antennas to test and maintain records for certificates of compliance, we estimate an average of 220 hours per firm for annual testing and recordkeeping.

Total Estimated Annual Burden: 1,540 hours (7 firms × 220 hours).

General Description of Collection: The Safety Standard for Omnidirectional Citizens Band Base Station Antennas (16 CFR part 1204) establishes performance requirements for omnidirectional citizens band base station antennas to reduce unreasonable risks of death and injury that may result if an antenna contacts overhead power lines while being erected or removed from its site. The regulations implementing the standard (16 CFR part 1204, subpart B) require manufacturers, importers, and private labelers of antennas subject to the standard to test the antennas for compliance with the standard and to maintain records of that testing.

Alberta E. Mills,
Secretary, Consumer Product Safety Commission.

[FR Doc. 2019-11974 Filed 6-6-19; 8:45 am]

BILLING CODE 6355-01-P